DEPARTMENT OF DEFENSE

Department of the Navy

[Docket ID: USN-2024-HQ-0010]

Proposed Collection; Comment Request

AGENCY: Department of the Navy, Department of Defense (DoD).

ACTION: 60-Day information collection notice.

SUMMARY: In compliance with the Paperwork Reduction Act of 1995, the Department of the Navy announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 13, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to OPNAV Forms/Information Collections Office (DNS-14), 2000 Navy Pentagon, Room 4E563, Washington, DC 20350-2000, ATTN: Ms. Ashley Alford, or call 703-614-7585.

SUPPLEMENTARY INFORMATION:

Title; Associated Form; and OMB Number: CATCH Program; OMB Control Number 0703-0069.

Needs and Uses: Section 543 of Public Law 113-291, the National Defense Authorization Act for Fiscal Year 2015 requires that an individual who files a restricted report on an incident of sexual assault may elect to inform a Military Criminal Investigative Organization (MCIO) on a confidential basis and without affecting the restrictive nature of the report.

The MCIOs will use the information collected to query unrestricted sexual assault investigations and existing restricted reports in the CATCH database and potentially identify serial sexual assault offenders in both restricted and unrestricted reports of sexual assault. Respondents to this information collection are victims in restricted reports of sexual assault made to the Department of Defense. The respondents are providing information for this collection because upon making their restricted report of sexual assault to a Sexual Assault Response Coordinator, each respondent was given the option of voluntarily making a submission to this database. The respondents who elect to participate can do so by providing information electronically or through a CATCH submission form. The successful end result of this information collection is the identification of serial sexual assault offenders that otherwise may have gone undetected if the information had remained restricted from MCIO access.

Affected Public: Individuals or households.

Annual Burden Hours: 193.

Number of Respondents: 385.

Responses per Respondent: 1.

Annual Responses: 385.

Average Burden per Response: 30 minutes.

Frequency: On occasion.

Dated: July 9, 2024.
Aaron T. Siegel,
Alternate OSD Federal Register Liaison Officer, Department of Defense.

[FR Doc. 2024-15418 Filed 7-12-24; 8:45 am]

BILLING CODE 6001-FR-P